DEPARTMENT OF COMMERCE

Foreign-Trade Zones Board

[Docket 26-2012]

Foreign-Trade Zone 277—Western Maricopa County, AZ; Application for Manufacturing Authority; Suntech Arizona, Inc., (Solar Panel Manufacturing), Goodyear, AZ

An application has been submitted to the Foreign-Trade Zones Board (the Board) by the Greater Maricopa Foreign Trade Zone, Inc., grantee of FTZ 277, requesting manufacturing authority on behalf of Suntech Arizona, Inc. (Suntech), located in Goodyear, Arizona. The application was submitted pursuant to the provisions of the Foreign-Trade Zones Act, as amended (19 U.S.C. 81a-81u), and the regulations of the Board (15 CFR part 400). It was formally filed on March 27, 2012.

The Suntech facility (100 employees, 117,000 square feet, 50 megawatt annual capacity) is located within Site 5 of FTZ 277. The facility is used for the manufacture of 275 and 290 watt solar panels for industrial use. Components and materials sourced from abroad (representing 80% of the value of the finished product) include: Junction boxes, silicone sealant, putty/caulking compounds, plastic sheets, glass, tin-coated copper strips, aluminum frames, insulation strips, and copper bars (duty rate ranges from duty-free to 5.3%).

FTZ procedures could exempt Suntech from customs duty payments on the foreign components used in export production. The company has no current exports, but has indicated that it may export in the future. On its domestic sales, Suntech would be able to choose the duty rates during customs entry procedures that apply to solar panels (duty-free) for the foreign inputs noted above. Suntech would also be exempt from duty payments on any of these foreign inputs that become scrap or waste during manufacturing. FTZ designation would further allow Suntech to realize logistical benefits through certain customs procedures. Customs duties also could possibly be deferred or reduced on foreign-status production equipment. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is June 4, 2012. Rebuttal comments in response to material submitted during the foregoing period may be submitted during the subsequent 15-day period to June 18, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: March 27, 2012.
Andrew McGilvray,
Executive Secretary.

[FR Doc. 2012-7878 Filed 4-3-12; 8:45 am]

BILLING CODE 3510-DS-M